DEPARTMENT OF ENERGY

Federal Energy Regulatory Commission

[Docket No. RP00-257-005]

Ozark Gas Transmission, L.L.C.; Notice of Compliance Filing

January 18, 2001.

Take notice that on January 12, 2001, Ozark Gas Transmission, L.L.C. (Ozark) tendered for filing as part of its FERC Gas Tariff, Original Volume No. 1, the following revised tariff sheet, to be effective November 1, 2000:

Second Revised Sheet No. 80

Ozark asserts that the purpose of this filing is to comply with the Commission's order issued December 15, 2000, in Docket No. RP00-257-000.

Ozark states that it is filing to reflect its commitment under Article III of the settlement of its rate case, as approved by the Commission in Docket No. RP00-257-000 (Ozark Gas Transmission, 93 FERC ¶ 61,281 (2000)), to file annual actual fuel usage reports with the Commission no later than April 1 of each year.

Ozark further states that it has served copies of this filing upon the company's jurisdictional customers and interested state commissions. Questions concerning this filing may be directed to counsel for Ozark, James F. Bowe, Jr., Dewey Ballantine LLP, at (202) 429-1444, fax (202) 429-1579, or jbowe@deweyballantine.com.

Any person desiring to protest said filing should file a protest with the Federal Energy Regulatory Commission, 888 First Street, NE., Washington, DC 20426, in accordance with section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-2075 Filed 1-23-01; 8:45 am]

BILLING CODE 6717-01-M